DEPARTMENT OF TRANSPORTATION

Federal Motor Carrier Safety Administration

[Docket No. FMCSA-2024-0289]

Commercial Driver's License: State of Hawaii; Application for Exemption

AGENCY: Federal Motor Carrier Safety Administration (FMCSA), Department of Transportation (DOT).

ACTION: Notice of final disposition; granting of application for exemption.

SUMMARY: FMCSA announces its decision to grant an exemption to the State of Hawaii allowing the State to waive specific portions of the commercial driver's license (CDL) skills test for CDL applicants who take the skills test on the islands of Lanai and Molokai and issue these drivers a restricted CDL. Drivers who receive a restricted CDL under the provisions of this exemption are also exempt from the entry-level driver training (ELDT) regulations. FMCSA concludes that granting this exemption, subject to the terms and conditions set forth in this notice, is likely to achieve a level of safety equivalent to or greater than the level that would be achieved absent the exemption. This Federal Register notice supersedes the current two-year exemption granted to the State of Hawaii that is scheduled to expire on February 20, 2026.

DATES: The exemption is effective July 17, 2025 and expires July 17, 2030.

FOR FURTHER INFORMATION CONTACT: Mr. Richard Clemente, FMCSA Driver and Carrier Operations Division; Office of Carrier, Driver and Vehicle Safety Standards; 202-366-2722. richard.clemente@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2024-0289/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews applications, safety analyses, and public comments and determines whether granting the exemption would likely achieve a level of safety equivalent to, or greater than, the level that would be achieved absent such exemption pursuant to 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

CDL applicants must possess and demonstrate the safe on-road driving skills for their vehicle class identified in 49 CFR 383.113(c). Under 49 CFR 383.113(c)(2) and (4), CDL applicants must demonstrate, respectively, the ability to signal appropriately when changing direction in traffic and to choose a safe gap for changing lanes, passing other vehicles, and crossing or entering traffic.

As prescribed in 49 CFR 383.153(a)(10)(ix), a State has the discretion to impose restrictions on a CDL or create its own restrictions using additional codes for additional restrictions, as long as each such restriction code is fully explained on the front or back of the CDL document.

Under 49 CFR 380.700, ELDT providers are required to be listed on the Training Provider Registry (TPR). The criteria for being listed on the TPR are outlined in 49 CFR 380.703, and include following a curriculum that meets the applicable criteria set forth in appendices A through E of part 380.

The ELDT curriculum requirements in 49 CFR part 380, Appendix A, require an ELDT provider provide the following training units as a part of the behind-the-wheel (BTW) public road Class A CDL training: Unit A3.1 and Class B CDL training: Unit B3.1 Vehicle Controls. Vehicle controls for these two training units include: Left turn; right turns; lane changes; curves at highway speeds, and entry and exit on the interstate or controlled access highway.

Under 49 CFR 380.609, individuals who apply for a Class A or Class B CDL, for the first time, or who upgrade to a Class A or B CDL, must complete driver training from a provider listed on the TPR, as set forth in subpart G.

Under 49 CFR 383.73(b)(11), a State Driver Licensing Agency (SDLA) cannot conduct a skills test of an applicant for an upgrade to a Class A or Class B CDL, or a passenger, school bus endorsement, or administer the knowledge test to an applicant for the hazardous materials endorsement, unless the applicant has completed the training required by subpart F of part 380 of this subchapter.

Applicant's Request

The State of Hawaii's application for exemption was described in detail in a Federal Register notice on December 30, 2024 (89 FR 106729) and will not be repeated as the facts have not changed.

IV. Public Comments

The Agency received one comment. David Barnes commented in opposition to the request stating: “I don't agree with an exemption on the basis of driving on a small island. In my mind as a driver and a safety professional it doesn't matter if you drive 1 mile or a million miles on a public road that you should have the same training and held to the same standard. The exemption should be withdrawn and not not [sic] issued for 5 years.”

V. FMCSA Decision

FMCSA has evaluated Hawaii's application for an exemption and the public comment. Based on its analysis, FMCSA hereby grants Hawaii an exemption from 49 CFR 383.113(c)(2) and (4) for CDL applicants taking the CDL skills test on the islands of Lanai and Molokai. Hawaii may issue restricted CDLs limiting these drivers to operating a commercial motor vehicle (CMV) on these two islands only. The roadway limitations (e.g., the number of lanes and maximum speed limits) provide an effective safeguard to prevent exempted drivers from operating under conditions for which they have not demonstrated their abilities through completion of an ELDT program that meets FMCSA's requirements, or a complete CDL skills test that would enable the State to issue an unrestricted CDL.

Given the infrastructure limitations of the islands of Lanai and Molokai, FMCSA is granting an exemption to Lanai and Molokai CDL applicants from the ELDT regulations. This decision is consistent with the exemption FMCSA granted to the State of Alaska (87 FR 79932, 89 FR 80008).¹ Like the 14 communities covered under Alaska's exemption, the islands of Lanai and Molokai have logistical barriers that prevent them from full regulatory compliance and prevent residents from accessing CDL training.

¹ This exemption renewal allows Alaska to waive specified portions of the CDL skills test for drivers who reside and operate in 14 defined geographic areas that lack the infrastructure to allow completion of the full skills test. Drivers who receive a restricted CDL under the provisions of the renewed exemption are also exempt from the ELDT regulations.

FMCSA finds that exempting CDL applicants on the islands of Lanai and Molokai from portions of the CDL skills test and from the ELDT requirements will likely achieve an equivalent level of safety. The exemption applies only to CDL applicants who operate CMVs on the islands of Lanai and Molokai. If the driver attempts to transfer the CDL to another jurisdiction, the restriction must be noted on the motor vehicle record, ensuring the receiving SDLAs are aware that the driver did not complete ELDT and did not take the full CDL skills test.

A. Applicability of Exemption

FMCSA grants an exemption from 49 CFR 383.113(c)(2) and (c)(4) and from 49 CFR part 380, subparts F and G, to drivers who take the CDL skills test and receive a restricted CDL on the islands of Lanai and Molokai for a period of five years subject to the terms and conditions of this decision.

B. Terms and Conditions

Hawaii and drivers operating under this exemption are subject to the following terms and conditions:

1. Hawaii may waive only the following portions of the CDL skills test, as set forth in 49 CFR 383.113(c), that cannot be performed due to infrastructure limitations on the identified islands:

a. ability to signal appropriately when changing direction in traffic (49 CFR 383.113(c)(2)); and

b. ability to choose a safe gap for changing lanes, passing other vehicles, and for crossing or entering traffic (49 CFR 383.113(c)(4)).

2. Hawaii must comply with 49 CFR 383.133(b) and 383.135(a) of the knowledge tests standards for testing procedures and methods set forth in 49 CFR part 383, subpart H, and must continue to administer knowledge tests that fulfill the content requirements of subpart G.

3. Drivers applying for a CDL to be issued under this exemption must take the CDL skills test on either the island of Lanai or Molokai.

4. Drivers issued a restricted CDL under this exemption may operate a CMV only on the islands of Lanai and or Molokai. The State of Hawaii must establish a new state CDL restriction under 49 CFR 383.153(a)(10)(ix), “R—Restriction,” with the following description printed on the back of the license “Restricted to Lanai and Molokai.” These restricted CDLs will not be valid for use on Kauai, Oahu, Maui, Hawaii island, the U.S. Mainland and anywhere else U.S. CDLs are valid.

5. The drivers must comply with all other applicable Federal Motor Carrier Safety Regulations (49 CFR parts 350-399).

C. Preemption

In accordance with 49 U.S.C. 31315(d), as implemented by 49 CFR 381.600, during the period this exemption is in effect, no State shall enforce any law or regulation that conflicts with or is inconsistent with this exemption with respect to a firm or person operating under the exemption.

D. Notification to FMCSA

The State of Hawaii must provide to FMCSA annually and upon request, a list of all drivers issued restricted CDLs under this exemption.

E. Termination

FMCSA does not believe that drivers covered by this exemption will experience any deterioration of their safety record. The Agency will, however, rescind the exemption if: (1) the State of Hawaii or drivers operating under the exemption fail to comply with the terms and conditions of the exemption; (2) the exemption results in a lower level of safety than was maintained before it was granted; or (3) continuation of the exemption would not be consistent with the goals and objective of 49 U.S.C. 31136(e) and 31315(b).

Sue Lawless,
Assistant Administrator.

[FR Doc. 2025-13433 Filed 7-16-25; 8:45 am]

BILLING CODE 4910-EX-P